DEPARTMENT OF COMMERCE

National Oceanic and Atmospheric Administration

RIN 0648-XE320

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will meet in San Juan, Puerto Rico.

DATES: The meetings will be held on December 8-10, 2015. See SUPPLEMENTARY INFORMATION for specific dates and times.

ADDRESSES: The meetings will be held at the Caribbean Fishery Management Council Headquarters, 270 Muñoz Rivera Avenue, Suite 401, San Juan, Puerto Rico 00918.

FOR FURTHER INFORMATION CONTACT: Caribbean Fishery Management Council, 270 Muñoz Rivera Avenue, Suite 401, San Juan, Puerto Rico 00918-1903; telephone: (787) 766-5926.

SUPPLEMENTARY INFORMATION: The Caribbean Fishery Management Council's SSC will hold a three-day meeting to discuss the items contained in the following agenda:

December 8, 2015, 9 a.m.-5 p.m.

○ Call to Order

○ Island-Based Fishery Management: Choosing Species to be Included for Federal Management Within Each Island Group

• Review Draft List of Species Selected for Management—Review

○ Puerto Rico

○ St. Croix

○ St. Thomas/St. John

• Next Steps in Developing Island Based

○ Action 2—Species Complexes—SERO Update

• SEDAR 46 U. S. Caribbean Data-Limited Species Workshop Update

○ Data Review—SEFSC

○ Alternative Methods for Establishing Reference Points

○ Review Methods SEFSC

December 9, 2015, 9 a.m.-5 p.m.

• SEDAR 46 U. S. Caribbean Data-Limited Species Workshop Update (continued)

○ Data Review—SEFSC

○ Alternative Methods for Establishing Reference Points

○ Review Methods SEFSC

• Next Steps in Developing Island Based

○ Action 3—Reference Points

○ Other Needed Actions

○ 5 year CFMC Research Plan

December 10, 2015, 9 a.m.—12 p.m.

• Finalize 5 year CFMC Research Plan

• Review average landings relative to ACLs and proposed closures

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: November 18, 2015.
Tracey L. Thompson,
Acting Deputy Director, Office of Sustainable Fisheries, National Marine Fisheries Service.

[FR Doc. 2015-29783 Filed 11-20-15; 8:45 am]

BILLING CODE 3510-22-P